DEPARTMENT OF TRANSPORTATION

National Highway Traffic Safety Administration

[Docket No. NHTSA-2015-0016, Notice 2]

Decision That Nonconforming Model Year 2009 Ford F-150 Trucks Are Eligible for Importation

AGENCY: National Highway Traffic Safety Administration (NHTSA), Department of Transportation (DOT).

ACTION: Grant of petition.

SUMMARY: This document announces a decision by the National Highway Traffic Safety Administration that certain model year (MY) 2009 Ford F-150 trucks that were not originally manufactured to comply with all applicable Federal Motor Vehicle Safety Standards (FMVSS), are eligible for importation into the United States because they are substantially similar to vehicles originally manufactured for sale in the United States and that were certified by their manufacturer as complying with the safety standards (the U.S. certified version of the MY 2009 Ford F-150 trucks) and they are capable of being readily altered to conform to the standards.

DATES: This decision became effective on January 7, 2016.

ADDRESSES: For further information contact George Stevens, Office of Vehicle Safety Compliance, NHTSA (202-366-5308).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified as required under 49 U.S.C. 30115, of the same model year as the model of the motor vehicle to be compared, and is capable of being readily altered to conform to all applicable FMVSS.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Wallace Environmental Testing Laboratories (WETL), Inc., of Houston, Texas (Registered Importer R-90-005) petitioned NHTSA to decide whether certain model year (MY) 2009 Ford F-150 trucks are eligible for importation into the United States. NHTSA published a notice of the petition on November 5, 2015 (80 FR 68603) to afford an opportunity for public comment. No comments were received in response to the notice of petition. The reader is referred to that notice for a thorough description of the petition.

To view the petition, and all supporting documents log onto the Federal Docket Management System (FDMS) Web site at: http://www.regulations.gov/. Then follow the online search instructions to locate docket number “NHTSA-2015-0016.”

Conclusions and Conditions

NHTSA has reviewed the petition and has concluded that the vehicles covered by the petition are capable of being readily altered to comply with all applicable FMVSS. However, NHTSA has also decided that an RI who imports or modifies one of these vehicles must include in each statement of conformity and associated documents (referred to as a “conformity package”) it submits to NHTSA under 49 CFR 592.6(d) specific proof to confirm that the vehicle was manufactured to conform to, or was successfully altered to conform to, each of the following standards:

Standard No. 101 Controls and Displays: The petition stated that the vehicles could be conformed to the standard through replacement of the speedometer with the U.S.-model part, which includes the BRAKE telltale, and reprogramming of the speedometer software.

NHTSA has decided that a description of how the programming changes were completed, and how compliance with the standard was verified after reprogramming, must be included in each conformity package. Photographs, printouts, and/or images of the installation computer's monitor (“screenshots”), as practicable, must be submitted as part of the proof that the reprogramming was carried out successfully.

Standard No. 138 Tire Pressure Monitoring Systems: The petition stated that the vehicles meet the requirements of the standard and are equipped with hardware and software that is identical to that installed in the U.S.-model vehicles.

NHTSA has decided that a description of how compliance was verified must accompany each conformity package. Photographs, printouts, and/or screenshots, as practicable, must be submitted as proof that compliance verification (including substantiation that hardware and software installed in the vehicle is identical to that installed in the U.S.-model vehicles) was carried out successfully.

Standard No. 208 Occupant Crash Protection: The petition stated that a U.S.-version of the owner's manual must be provided with the vehicle to meet the information requirements of the standard.

NHTSA has decided that each conformity package must include a detailed description of the occupant protection system, including photographs of all required labeling, and a description of how compliance was verified. Photographs, printouts, and/or screenshots, as practicable, must be submitted as proof that compliance verification (including substantiation that hardware and software installed in the vehicle is identical to that installed in the U.S.-model vehicles) was carried out successfully.

NHTSA has also determined that each conformity package must include evidence showing how the RI verified that the changes it made in loading or reprograming vehicle software to achieve conformity with each separate FMVSS, did not also cause the vehicle to fall out of compliance with any other applicable FMVSS.

Decision

Accordingly, on the basis of the foregoing, NHTSA hereby decides that MY 2009 Ford F-150 trucks that were not originally manufactured to comply with all applicable FMVSS, are substantially similar to MY 2009 Ford F-150 trucks manufactured for sale in the United States, and certified under 49 U.S.C. 30115, and are capable of being readily altered to conform to all applicable FMVSS.

Vehicle Eligibility Number for Subject Vehicles

The importer of a vehicle admissible under any final decision must indicate on the form HS-7 accompanying entry the appropriate vehicle eligibility number indicating that the vehicle is eligible for entry. VSP-575 is the vehicle eligibility number assigned to vehicles admissible under this notice of final decision.

Authority: (49 U.S.C. 30118, 30120: delegations of authority at 49 CFR 1.95 and 501.8)

Jeffrey M. Giuseppe,
Director, Office of Vehicle Safety Compliance.

[FR Doc. 2016-00446 Filed 1-12-16; 8:45 am]

BILLING CODE 4910-59-P